DEPARTMENT OF DEFENSE

Office of the Secretary

[DoD-2008-OS-0024]

Privacy Act of 1974; Systems of Records

AGENCY: DoD; Defense Finance and Accounting Service.

ACTION: Notice to add a new system of records.

SUMMARY: The Defense Finance and Accounting Service (DFAS) is proposing to add a system of records notice to its inventory of record systems subject to the Privacy Act of 1974, (5 U.S.C. 552a), as amended.

DATES: This Action will be effective without further notice on April 16, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on March 5, 2008, to the House Committee on Government Reform, the Senate Committee on Governmental Affairs, and the Office of Management and Budget (OMB) pursuant to paragraph 4c of Appendix I to OMB Circular No. A-130, “Federal Agency Responsibilities for Maintaining Records About Individuals,” dated December 12, 2000, 65 FR 239.

Dated: March 10, 2008.
L.M. Bynum,
Alternate Federal Register Liaison Officer, Department of Defense.

T-1430

System name:

Mentoring Program.

System location:

Triple Creek Associates, Inc., 7730 E. Belleview Ave., Suite 200A, Greenwood Village, CO 80111-6617.

Categories of individuals covered by the system:

Department of Finance and Accounting System (DFAS) civilian employees.

Categories of records in the system:

Name, address, Social Security Number (SSN), e-mail address, work phone, location, organization, job series, and grade, years of experience at DFAS, total years of work experience.

Authority for the maintenance of the system:

5 U.S.C. 301, Departmental Regulations; 5 U.S.C. 1402, and Department of Defense Instruction (DoDI) 1430.02, Civilian Career Management.

Purpose(s):

The Defense Finance and Accounting Service (DFAS) is proposing to establish a system of records to provide DFAS civilian employees with an automated mentoring system which will match mentees with potential mentors based on mentee need and mentor capabilities and experience. The system will facilitate the tracking and management of the DFAS mentoring relationships.

Routine use of records maintained in the system, including categories of users and the purposes of such uses:

In addition to those disclosures generally permitted under 5 U.S.C. 552a(b) of the Privacy Act, these records or information contained therein may specifically be disclosed outside the DoD as a routine use pursuant to 5 U.S.C. 552a(b)(3) as follows: To DFAS contractors who serve as the agent for the Agency for the purpose of managing the DFAS web-based mentoring program. It may also be disclosed for any of the DoD “Blanket Routine Uses” as published at the beginning of the DFAS compilation of systems of record notices.

Policies and practices for storing, retrieving, accessing, retaining, and disposing of records in the system:

Storage:

Records are maintained in an electronic database.

Retrievability:

By individual's name.

Safeguards:

The system is a Web-based system and it is maintained by a DoD contractor on a contractor owned computer server. The data is protected by dedicated firewalls and web servers that are physically separated from other contractor database servers. The database resides behind a firewall, is not publicly accessible, and a distinct database instance is used for this system. The contractor employs constant proactive monitoring, including port monitoring to identify unauthorized attempts to upload or change information or otherwise cause damage to the system. The server is located in a secured facility with limited access. In accordance with the contract, the contractor is not to remove any of the data from the contracting site, and the contractor must follow the DoD safeguarding policies, and regulations as defined in the contract. The contractor is to ensure confidentiality of all data, and it will be shared with only those individuals who have a need-to-know.

Retention and disposal:

Destroy when 5 years old or when superseded or obsolete, whichever is sooner.

System manager(s) and address:

DFAS Mentoring and Coaching Program Manager, Learning and Development Division, 8899 E. 56th Street, Indianapolis, IN 46249-0160.

Notification procedure:

Individuals seeking to determine whether information about themselves is contained in this record system should address written inquiries to the Defense Finance and Accounting Service, Freedom of Information/Privacy Act Program Manager, Corporate Communications and Legislative Liaison, 6760 E. Irvington Place, Denver, CO 80279-8000.

Individuals should furnish full name, Social Security Number (SSN), current address, and telephone number.

Record access procedures:

Individuals seeking access to information about themselves contained in this record system should address written inquiries to the Defense Finance and Accounting Service, Freedom of Information/Privacy Act Program Manager, Corporate Communications and Legislative Liaison, 6760 E. Irvington Place, Denver, CO 80279-8000.

Individuals should furnish full name, Social Security Number (SSN), current address, and telephone number.

Contesting record procedures:

The DFAS rules for accessing records, for contesting contents and appealing initial agency determinations are published in DFAS Regulation 5400.11-R; CFR part 324; or may be obtained from Defense Finance and Accounting Service, Freedom of Information/ Privacy Act Program Manager, Corporate Communications and Legislative Liaison, 6760 E. Irvington Place, Denver, CO 80279-8000.

Record source categories:

From the Defense Civilian Personnel Data System (DCPDS) and the individual concerned.

Exemptions claimed for the system:

None.

[FR Doc. E8-5308 Filed 3-14-08; 8:45 am]

BILLING CODE 5001-06-P